OFFICE OF PERSONNEL MANAGEMENT

5 CFR PART 630

RIN 3206-AE95

Absence and Leave; Sick Leave; Correction

AGENCY: U.S. Office of Personnel Management.

ACTION: Correcting amendment.

SUMMARY: The U.S. Office of Personnel Management is correcting references to a non-existent section number in the recredit of sick leave regulations issued on December 2, 1994 (59 FR 62271).

DATES: Effective March 10, 2009.

FOR FURTHER INFORMATION CONTACT: Doris Rippey by telephone at (202) 606-2858; by fax at (202) 606-0824; or by e-mail at pay-performance-policy@opm.gov.

SUPPLEMENTARY INFORMATION: On December 2, 1994, the U.S. Office of Personnel Management issued final regulations concerning the recredit of sick leave (59 FR 62271). As a part of those regulations, § 630.502(b) and (c) made reference to § 630.407. On August 17, 2006, subpart D of this part was revised and § 630.407 was renumbered as § 630.405, with no change to the text (71 FR 48696). That document failed to amend § 630.502(b) and (c), which continue to reference the non-existent § 630.407. Consequently, we are publishing this correction notice to amend § 630.502(b) and (c) to replace the non-existent § 630.407 with § 630.405.

List of Subjects in 5 CFR Part 630

Government employees.

Accordingly, 5 CFR part 630 is corrected by making the following correcting amendments:

PART 630—ABSENCE AND LEAVE

1. The authority citation for part 630 continues to read as follows:

Authority: 5 U.S.C. 6311; § 630.205 also issued under Pub. L. 108-411, 118 Stat. 2312; § 630.301 also issued under Pub. L. 103-356, 108 Stat. 3410 and Pub. L. 108-411, 118 Stat 2312; § 630.303 also issued under 5 U.S.C. 6133(a); §§ 630.306 and 630.308 also issued under 5 U.S.C. 6304(d)(3), Pub. L. 102-484, 106 Stat. 2722, and Pub. L. 103-337, 108 Stat. 2663; subpart D also issued under Pub. L. 103-329, 108 Stat. 2423; § 630.501 and subpart F also issued under E.O. 11228, 30 FR 7739, 3 CFR, 1974 Comp., p. 163; subpart G also issued under 5 U.S.C. 6305; subpart H also issued under 5 U.S.C. 6326; subpart I also issued under 5 U.S.C. 6332, Pub. L. 100-566, 102 Stat. 2834, and Pub. L. 103-103, 107 Stat. 1022; subpart J also issued under 5 U.S.C. 6362, Pub. L. 100-566, and Pub. L. 103-103; subpart K also issued under Pub. L. 105-18, 111 Stat. 158; subpart L also issued under 5 U.S.C. 6387 and Pub. L. 103-3, 107 Stat. 23; and subpart M also issued under 5 U.S.C. 6391 and Pub. L. 102-25, 105 Stat. 92.

Subpart E—Recredit of Leave

2. Revise paragraphs (b) and (c) of § 630.502 to read as follows:

§ 630.502 Sick leave recredit.

* * * * *

(b) Except as provided in § 630.405 and in paragraph (c) of this section, an employee who has had a break in service is entitled to a recredit of sick leave (without regard to the date of his or her separation), if he or she returns to Federal employment on or after December 2, 1994, unless the sick leave was forfeited upon reemployment in the Federal Government before December 2, 1994.

(c) Except as provided in § 630.405, an employee of the government of the District of Columbia who was first employed by the government of the District of Columbia before October 1, 1987, who has had a break in service is entitled to a recredit of sick leave (without regard to the date of his or her separation), if he or she returns to Federal employment on or after December 2, 1994, unless the sick leave was forfeited upon reemployment in the Federal Government before December 2, 1994.

* * * * *

U.S. Office of Personnel Management.
Jerome D. Mikowicz,
Deputy Associate Director, Center for Pay and Leave Administration.

[FR Doc. E9-5023 Filed 3-9-09; 8:45 am]

BILLING CODE 6325-39-P